DEPARTMENT OF DEFENSE

Department of the Navy

[Docket ID: USN-2023-HQ-0006]

Submission for OMB Review; Comment Request

AGENCY: Department of the Navy, Department of Defense (DoD).

ACTION: 30-Day information collection notice.

SUMMARY: The DoD has submitted to the Office of Management and Budget (OMB) for clearance the following proposal for collection of information under the provisions of the Paperwork Reduction Act.

DATES: Consideration will be given to all comments received by September 20, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Distinguished Visitor (DV)/Friends of the Navy (FON) Embark Request; OMB Control Number: 0703-0060.

Type of Request: Reinstatement with change.

Number of Respondents: 3,000.

Responses per Respondent: 1.

Annual Responses: 3,000.

Average Burden per Response: 15 minutes.

Annual Burden Hours: 750.

Needs and Uses: The purpose of the Distinguished Visitor (DV)/Friends of the Navy (FON) Embark is to facilitate embarkation on U.S. Navy surface ships or submarines and determine embarkation qualification. This information may also be used for notification of next of kin in the event of death or serious injury or to permit transmission of public affairs information from the Navy to the individual concerned. Completion of the information is completely voluntary; however, failure to provide required information may result in denial of embarkation request. Respondents are interested persons, such as community leaders, legislators, business executives, educators, foreign military or dignitaries, and other Non-Federal Government employees wishing to embark on a Navy vessel.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: August 15, 2023.
Natalie M. Ragland,
Alternate OSD Federal Register Liaison Officer, Department of Defense.

[FR Doc. 2023-17868 Filed 8-18-23; 8:45 am]

BILLING CODE 5001-06-P